DEPARTMENT OF THE INTERIOR

Bureau of Ocean Energy Management

[Docket No. BOEM-2013-0065] [MMAA104000]

Notice of Determination of No Competitive Interest, Offshore Virginia

AGENCY: Bureau of Ocean Energy Management (BOEM), Interior.

ACTION: Notice of Determination of No Competitive Interest (DNCI) for a Proposed Outer Continental Shelf (OCS) Wind Energy Research Lease Offshore Virginia.

SUMMARY: This notice provides BOEM's determination that there is no competitive interest in the area requested by the Commonwealth of Virginia, Department of Mines Minerals and Energy (DMME) to acquire an OCS research lease as described in the Public Notice of an Unsolicited Request for an OCS Research Lease; Request for Competitive Interest (RFCI); and Request for Public Comment, that BOEM published on July 30, 2013, (78 FR 45965-45968). The RFCI described the proposal submitted to BOEM by the DMME to acquire an OCS lease for renewable energy research activities, including wind turbine installation and operational testing and installation of metocean monitoring equipment on the OCS off the coast of Virginia, and provided an opportunity for the public to submit comments about the proposal.

DATES: Effective December 9, 2013.

FOR FURTHER INFORMATION CONTACT: Mr. Casey Reeves, Project Coordinator, BOEM, Office of Renewable Energy Programs, 381 Elden Street, HM 1328, Herndon, Virginia 20170. (703) 787-1320.

SUPPLEMENTARY INFORMATION:

Authority

This DNCI is published pursuant to subsection 8(p)(3) of the OCS Lands Act, (43 U.S.C. 1337(p)(3)), which was added by section 388 of the Energy Policy Act of 2005 (EPAct), and the implementing regulations at 30 CFR part 585. Subsection 8(p)(3) of the OCS Lands Act requires that an OCS renewable energy lease, easement, or right-of-way (ROW) be issued “on a competitive basis unless the Secretary [of the Interior] determines after public notice of a proposed lease, easement, or ROW that there is no competitive interest.” The Secretary delegated the authority to make such determinations to BOEM.

Determination and Next Steps

This DNCI provides notice to the public that BOEM has determined there is no competitive interest in the proposed research lease area, as no indications of competitive interest were submitted in response to the RFCI.

In the RFCI, BOEM also solicited public comment from interested stakeholders about the proposed lease area and the proposed DMME research project and any potential impacts from the project. In response to the RFCI, BOEM received public comment submissions from five entities. BOEM will use the comments received to inform subsequent decisions. After the publication of this DNCI, BOEM may proceed with the research leasing process using the procedures described in 30 CFR § 585.238.

Map of the Area

A map of the area proposed for a research lease can be found at the following site: http://www.boem.gov/Renewable-Energy-Program/State-Activities/Virginia.aspx

Dated: November 27, 2013.
Tommy P. Beaudreau,
Director, Bureau of Ocean Energy Management.

[FR Doc. 2013-29242 Filed 12-6-13; 8:45 am]

BILLING CODE 4310-MR-P